DEPARTMENT OF ENERGY

Federal Energy Regulatory Commission

[Project No. 2659-011 Oregon]

PacifiCorp; Notice of Availability of Draft Environmental Assessment

March 2, 2001.

In accordance with the National Environmental Policy Act of 1969 and the Federal Energy Regulatory Commission's (Commission) regulations, 18 CFR Part 380 (Order No. 486, 52 FR 47897), the Office of Energy Projects has reviewed the application for a new license for the Powerdale Hydroelectric Project, and has prepared a Draft Environmental Assessment (Draft EA). The project is located on the Hood River, near the town of Hood River, in Hood River County, Oregon. The Draft EA contains the staff's analysis of the potential environmental impacts of the project and concludes that licensing the project, with appropriate environmental protective measures, would not constitute a major federal action that would significantly affect the quality of the human environment.

Copies of the Draft EA are available for review in the Public Reference Room, Room 2A, of the Commission's offices at 888 First Street, NE., Washington, DC 20426.

Any comments should be filed within 45 days from the date of this notice and should be addressed to David P. Boergers, Secretary, Federal Energy Regulatory Commission, 888 First Street, NE., Washington, DC 20426. For further information, contact Bob Easton, Team Leader, at (202) 219-2782. Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 01-5641 Filed 3-7-01; 8:45 am]

BILLING CODE 6717-01-M